DEPARTMENT OF DEFENSE

Department of the Navy

Notice of Availability of Record of Decision for the Final Environmental Impact Statement for Testing and Training Activities in the Patuxent River Complex

AGENCY: Department of the Navy (DoN), Department of Defense (DoD).

ACTION: Notice of availability.

SUMMARY: The United States Department of the Navy, after carefully weighing the strategic, operational, and environmental consequences of the Proposed Action (Patuxent River Complex Final Environmental Impact Statement published in the Federal Register on March 25, 2022), announces its decision to conduct testing and training as identified in Alternative 2, the Navy's Preferred Alternative, of the Final Environmental Impact Statement (EIS) for Testing and Training Activities in the Patuxent River Complex (PRC).

SUPPLEMENTARY INFORMATION: Implementation of Alternative 2 will enable the Navy and other U.S. military services to meet their respective missions. The Navy's mission, under Title 10 United States Code (U.S.C.) section 8062, is to maintain, train, and equip combat-ready military forces capable of winning wars, deterring aggression, and maintaining freedom of the seas. The Navy will continue to implement the full suite of mitigation measures detailed in Table 3.10-1 (Impact Avoidance and Minimization Measures) of the PRC Final EIS to avoid or reduce potential environmental impacts during testing and training activities. The complete text of the Record of Decision (ROD) for the PRC Final EIS is available on the project website at www.prceis.com, along with the March 2022 PRC Final EIS and supporting documents. Single copies of the ROD are available upon request by contacting: Naval Facilities Engineering Systems Command Atlantic, Attention: Code EV21JB, 6506 Hampton Boulevard, Norfolk, VA 23508.

J.M. Pike,
Commander, Judge Advocate General's Corps, U.S. Navy, Federal Register Liaison Officer.

[FR Doc. 2022-10743 Filed 5-23-22; 8:45 am]

BILLING CODE 3810-FF-P